DEPARTMENT OF DEFENSE

Defense Acquisition Regulations System

48 CFR Parts 201 and 252

[Docket DARS-2020-0001]

Defense Federal Acquisition Regulation Supplement: Technical Amendments

AGENCY: Defense Acquisition Regulations System, Department of Defense (DoD).

ACTION: Final rule.

SUMMARY: DoD is making needed technical amendments to update the Defense Federal Acquisition Regulation Supplement (DFARS).

DATES: Effective April 8, 2020.

FOR FURTHER INFORMATION CONTACT: Ms. Jennifer L. Hawes, Defense Acquisition Regulations System, OUSD(A&S)DPC(DARS), Room 3B941, 3060 Defense Pentagon, Washington, DC 20301-3060. Telephone 571-372-6115; facsimile 571-372-6094.

SUPPLEMENTARY INFORMATION: This final rule amends the DFARS as follows:

1. In section 202.101, the definition of “Departments and agencies” is revised to update the list.

2. In section 252.225-7013, Duty-Free Entry, the address for notification of the Government customs team is updated.

List of Subjects in 48 CFR Parts 202 and 252

Government procurement.

Jennifer Lee Hawes,
Regulatory Control Officer, Defense Acquisition Regulations System.

Therefore, 48 CFR parts 202 and 252 are amended as follows:

1. The authority citation for 48 CFR parts 202 and 252 continues to read as follows:

Authority: 41 U.S.C. 1303 and 48 CFR chapter 1.

2. In section 202.101, revise the definition of “Departments and agencies” to read as follows:

202.101 Definitions.

* * * * *

Departments and agencies, as used in DFARS, means the military departments and the defense agencies. The military departments are the Departments of the Army, Navy, and Air Force (the Marine Corps is a part of the Department of the Navy). The defense agencies are the Defense Advanced Research Projects Agency, the Defense Commissary Agency, the Defense Contract Management Agency, the Defense Counterintelligence and Security Agency, the Defense Finance and Accounting Service, the Defense Health Agency, the Defense Information Systems Agency, the Defense Intelligence Agency, the Defense Logistics Agency, the Defense Threat Reduction Agency, the Missile Defense Agency, the National Geospatial-Intelligence Agency, the National Security Agency, the Space Development Agency, the United States Cyber Command, the United States Special Operations Command, the United States Transportation Command, and the Washington Headquarters Service.

* * * * *

PART 252—SOLICITATION PROVISIONS AND CONTRACT CLAUSES

252.225-7013 [Amended]

3. Amend section 252.225-7013 by—

a. Removing clause date “(MAY 2016)” and adding “(MAR 2020)” in its place; and

b. In paragraph (e)(2)(iv)(A) removing “207 New York Avenue, Staten Island, New York, 10305-5013” and adding “201 Varick Street, Room 905C, New York, New York 10014” in its place.

[FR Doc. 2020-06734 Filed 4-7-20; 8:45 am]

BILLING CODE 5001-06-P